DEPARTMENT OF HEALTH AND HUMAN SERVICES

National Committee on Vital and Health Statistics: Conference Call

Pursuant to the Federal Advisory Committee Act, the Department of Health and Human Services announces the following advisory committee telephone conference call.

Name: National Committee on Vital and Health Statistics (NCVHS). Subcommittee on Privacy and Confidentiality.

Time and Date: 11 a.m.-1 p.m., September 10, 2001.

Place: Conference Call, Dial in Number (800) 403-2010, Participant Code 478387.

Status: Open.

Purpose: The National Committee on Vital and Health Statistics in the statutory public advisory body to the Secretary of Health and Human Services in the area of health data, statistics, and health information policy. It is established by section 306(k) of the Public Health Service Act (42 U.S.C. 242k(k)), and its mandate includes advising the Secretary on the implementation of part C of title XI of the Social Security Act (42 U.S.C. 1320d through 1320d-8)(the Administrative Simplification provisions of the Health Insurance Portability and Accountability Act of 1996 (HIPAA), Pub. L. 104-191).

The Subcommittee on Privacy and Confidentiality monitors major developments in health information privacy and confidentiality on behalf of the full Committee, makes recommendations to the full Committee and assists and advises the Department on implementation of the health information privacy provisions of HIPAA.

This meeting of the Subcommittee on Privacy and Confidentiality will be conducted as a conference call to continue subcommittee discussion following the hearing held on August 21, 22 and 23 regarding: (1) The effects of the HIPAA health information privacy regulation on research (both research in which treatment is given and records-based research); and (2) the regulation's provisions for use and disclosure of health information for marketing. During this conference call, draft recommendations will be developed on the implementation of the HIPAA privacy regulation (45 CFR parts 160 and 164) with respect to matters considered at the hearing. After the conference call, the Subcommittee will prepare a draft letter to HHS Secretary Thompson. The draft letter will contain recommendations, and it will be reviewed by the full National Committee on Vital and Health Statistics at the September 24-25 meeting.

The HIPAA privacy regulation and further information about it can be found on the web site of the HHS Office for Civil Rights, at http://www.hhs.gov/ocr/hipaa/. The regulation has been in effect since April 14, 2001. Most entities covered by the regulation must come into compliance by April 14, 2003, and many are beginning the process of implementation.

Additional information about the Conference Call will be provided on the NCVHS website at http://www.ncvhs.hhs.gov shortly before the Conference Call date.

Contact Person for More Information: Substantive program information may be obtained from Gail Horlick, M.S.W., J.D., Lead Staff Person for the NCVHS Subcommittee on Privacy and Confidentiality, Office of Research and Demonstrations, Program Analyst, National Immunization Program, Centers for Disease Control and Prevention, 1600 Clifton Road, NE., Mailstop E-62, Atlanta, Georgia 30333, telephone (404) 639-8345; or Majorie S. Greenberg, Executive Secretary, NCVHS, CDC, Room 1100, Presidential Building, 6525 Belcrest Road, Hyattsville, Maryland 20782, telephone (301) 458-4245.

Information about the committee, including summaries of past meetings and a roster of committee members, is available on the Committee's website at http://www.ncvhs.hhs.gov.

Dated: August 29, 2001.
James Scanlon,
Director, Division of Data Policy.

[FR Doc. 01-22576 Filed 9-7-01; 8:45 am]

BILLING CODE 4151-05-M